DEPARTMENT OF THE INTERIOR

National Park Service

[NPS-WASO-NAGPRA-NPS0039769; PPWOCRADN0-PCU00RP14.R50000]

Notice of Intended Disposition: U.S. Department of the Interior, National Park Service, Klondike Gold Rush National Historic Park, Skagway, AK

AGENCY: National Park Service, Interior.

ACTION: Notice.

SUMMARY: In accordance with the Native American Graves Protection and Repatriation Act (NAGPRA), the U.S. Department of the Interior, National Park Service, Klondike Gold Rush National Historic Park (KLGO) intends to carry out the disposition of objects of cultural patrimony removed from Federal or Tribal lands to the lineal descendants, Indian Tribe, or Native Hawaiian organization with priority for disposition in this notice.

DATES: Disposition of the cultural items in this notice may occur on or after April 28, 2025. If no claim for disposition is received by March 30, 2026, the cultural items in this notice will become unclaimed cultural items.

ADDRESSES: Angela Wetz, Superintendent, Klondike Gold Rush National Historic Park, P.O. Box 517, Skagway, AK 99840, telephone (907) 983-9216, email angela_wetz@nps.gov.

SUPPLEMENTARY INFORMATION: This notice is published as part of the National Park Service's administrative responsibilities under NAGPRA. The determinations in this notice are the sole responsibility of the Superintendent KLGO, and additional information on the cultural items in this notice, including the results of consultation, can be found in the related records.

Abstract of Information Available

Based on the information available, seven glass beads were removed from the historic Dyea townsite, Skagway, Alaska between July and September of 2023. These seven beads have been identified by the Skagway Traditional Council as objects of cultural patrimony. Two of the beads, are known as Cornaline d'Aleppo beads, commonly referred to as white heart beads and first appeared in Alaska as early as 1840. The other five beads are commonly referred to as “Russian trade beads” and are of blue glass with facets. These seven items of cultural patrimony are stored appropriately and securely at the KLGO archaeological laboratory in Skagway, Alaska.

Determinations

KLGO has determined that:

• The seven objects of cultural patrimony described in this notice have ongoing historical, traditional, or cultural importance central to the Native American group, including any constituent sub-group (such as a band, clan, lineage, ceremonial society, or other subdivision), according to the Native American traditional knowledge of an Indian Tribe or Native Hawaiian organization.

• The Chilkat Indian Village (Klukwan); Chilkoot Indian Association (Haines); and the Skagway Village have priority for disposition of the cultural items described in this notice.

Claims for Disposition

Written claims for disposition of the cultural items in this notice must be sent to the appropriate official identified in this notice under ADDRESSES. If no claim for disposition is received by March 30, 2026, the cultural items in this notice will become unclaimed cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the cultural items in this notice may occur on or after April 28, 2025. If competing claims for disposition are received, KLGO must determine the most appropriate claimant prior to disposition. Requests for joint disposition of the cultural items are considered a single request and not competing requests. KLGO is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: March 17, 2025.
Melanie O'Brien,
Manager, National NAGPRA Program.

[FR Doc. 2025-05222 Filed 3-26-25; 8:45 am]

BILLING CODE 4312-52-P